DEPARTMENT OF TRANSPORTATION

Federal Aviation Administration

Notice of Intent to Rule on Request To Abandon Eunice Airport, Eunice, NM

AGENCY: Federal Aviation Administration (FAA), DOT.

ACTION: Notice of request to abandon Eunice Airport, Eunice, NM

SUMMARY: The FAA proposed to rule and invites public comment on the abandonment of the Eunice Airport, Eunice, New Mexico under provisions of Title 49, U.S.C. Section 47107 (h) and to release the state of New Mexico as airport owner from the Airport Improvement Program Grant Agreement Grant Assurances, and to change forever the lands of the Eunice Airport from aeronautical to non-aeronautical use. The state of New Mexico will reimburse the FAA for the single grant issued for this airport in 2002 by investing funds equal to the amortized amount in a project on another airport.

DATES: Comments must be received on or before October 16, 206.

ADDRESSES: Comments on this application may be mailed or delivered to the FAA at the following address: Mr. Lacey D. Spriggs, Manager, Federal Aviation Administration, Southwest Region, Airports Division, Louisiana/New Mexico Airports Development Office, ASW-640, 2601 Meacham Boulevard, Fort Worth, Texas 76193-0640. In addition, one copy of any comments submitted to the FAA must be mailed or delivered to Mr. Thomas D. Baca, Director, Aviation Division, New Mexico Highway and Transportation Department, P.O. Box 1149, Santa Fe, New Mexico 87504-1149.

FOR FURTHER INFORMATION CONTACT: Mr. Mike Saupp, Program Manager, Federal Aviation Administration, Louisiana/New Mexico Airports Development Office, ASW-640, 2601 Meacham Boulevard, Fort Worth, Texas 76193-0640.

The request to release the state of New Mexico from the grant assurances may be reviewed in person at this same location.

SUPPLEMENTARY INFORMATION: The FAA invites public comment on the request to abandon this airport and release the State of New Mexico from the Grant Assurances, and change the status of the lands at the Eunice Airport.

The following is a brief overview of the request: The state of New Mexico as owner of the airport that is on state owned land filed notice with the FAA to permanently abandon the Eunice Airport, Eunice, New Mexico. As a result of this request the state will make restitution in the amount of $35,000.00 for the amortized value of fencing installed by FAA Airport Improvement Program (AIP) Grant in 2002 in the same amount of funds in an AIP project at another airport. This process will reduce the FAA portion of the other project the same amount. This abandonment will result in the lands of the Eunice Airport being changed from aeronautical to non-aeronautical use and release the lands from the conditions of the AIP Grant Agreement Grant Assurances.

Any person may inspect the request in person at the FAA office listed above under FOR FURTHER INFORMATION CONTACT.

In addition, any person may, upon request, inspect the application, notice and other documents germane to the application in person at the office of Mr. Thomas D. Baca, Director, Aviation Division, New Mexico Highway and Transportation Department, P.O. Box 1149, Santa Fe, New Mexico 87504-1149.

Issued in Fort Worth, Texas on September 7, 2006.
Kelvin L. Solco,
Manager, Airports Division.

[FR Doc. 06-7659 Filed 9-13-06; 8:45 am]

BILLING CODE 4910-13-M